DEPARTMENT OF HEALTH AND HUMAN SERVICES

Food and Drug Administration

[Docket No. FDA-2009-N-0664]

Anesthetic and Life Support Drugs Advisory Committee; Cancellation

AGENCY: Food and Drug Administration, HHS.

ACTION: Notice.

SUMMARY: The meeting of the Anesthetic and Life Support Drugs Advisory Committee scheduled for January 28, 2010, is cancelled. This meeting was announced in the Federal Register of December 8, 2009 (74 FR 64702). This meeting has been cancelled to allow time for the FDA to review new information that is relevant to the benefit risk balance for the proposed new indication. The agency intends to continue evaluating the application and, as needed, will announce future meeting dates in the Federal Register.

FOR FURTHER INFORMATION CONTACT: Kalyani Bhatt, Center for Drug Evaluation and Research (HFD-21), Food and Drug Administration, 5600 Fishers Lane (for express delivery, 5630 Fishers Lane, rm. 1093), Rockville, MD 20857, 301-827-7001, FAX: 301-827-6776, email: Kalyani.Bhatt@fda.hhs.gov, or FDA Advisory Committee Information Line, 1-800-741-8138 (301-443-0572 in the Washington, DC area), code 3014512529. Please call the Information Line for up-to-date information on this meeting.

Dated: December 30, 2009.
David Horowitz,
Assistant Commissioner for Policy.

[FR Doc. E9-31306 Filed 1-5-10; 8:45 am]

BILLING CODE 4160-01-S